DEPARTMENT OF TRANSPORTATION

National Highway Traffic Safety Administration

49 CFR Part 571

[Docket No. NHTSA 2001-8876]

RIN 2127-AG92

Federal Motor Vehicle Safety Standards; Lamps, Reflective Devices, and Associated Equipment

AGENCY: National Highway Traffic Safety Administration (NHTSA), DOT.

ACTION: Withdrawal of rulemaking.

SUMMARY: In 2001, the agency granted a petition for rulemaking submitted by the United States Motorcycle Manufacturers Association, Inc. (USMMA). Petitioners asked NHTSA to amend the Federal motor vehicle lighting standard to allow a lower minimum mounting height for side reflex reflectors on motorcycles. The granting of the petition commenced agency rulemaking on the petition. Before taking further action in this area, the agency would like to expand its knowledge base with further research and more supporting data. Accordingly, this document withdraws the open rulemaking.

FOR FURTHER INFORMATION CONTACT: The following persons at the NHTSA, 400 Seventh Street, SW., Washington, DC 20590.

For non-legal issues, you may call Mr. Richard VanIderstine, Office of Crash Avoidance Standards (Telephone: (202) 366-2720) (Fax: (202) 366-7002).

For legal issues, you may call Mr. George Feygin, Office of Chief Counsel (Telephone: (202) 366-2992) (Fax: (202) 366-3820).

SUPPLEMENTARY INFORMATION:

I. Background

FMVSS No. 108, Lamps, Reflective Devices, and Associated Equipment, establishes lighting requirements for motor vehicles. Table IV of FMVSS No. 108 specifies that all reflex reflectors on motorcycles (including side reflectors) be located not less than 15 inches (381 mm) nor more than 60 inches (1524 mm) above the road surface.¹ USMMA petitioned the agency to allow for a lower minimum mounting height of 300 mm, instead of 381 mm.

¹ Reflex reflectors are devices that are used on vehicles to give an indication of presence to an approaching driver by reflecting light from the headlamp of the approaching vehicle.

Petitioners gave several reasons for their request. First, petitioners stated that the lower minimum mounting height would harmonize the Federal standard with the reflector mounting requirements of Europe and Asia, thus affording “global” motorcycle manufacturers certain cost savings opportunities associated with selling a common product in multiple markets.

Second, petitioners believed that lowering the height of the side reflectors would increase safety with respect to illumination by approaching vehicles. In support of their statement, USMMA noted that a lower reflector height would increase the distance between the motorcycle and the approaching vehicle at the point where the reflex reflector illumination occurs. I.e., if the reflector were lowered to 300 mm, an approaching vehicle would illuminate it sooner.²

² To examine the USMMA petition, please go to http://dms.dot.gov/ (Docket No. NHTSA-2001-8876-12).

Finally, petitioners noted that the vehicle lighting beam patterns have undergone significant improvements in recent years. As a result, petitioners stated, better lighting beam patterns contribute to better reflex reflector performance, even at the lower minimum height of 300 mm.

We granted USMMA's petition by letter dated September 7, 2001. The agency did not issue a notice of proposed rulemaking or any other rulemaking document subsequent to the granting of the petition.

II. Reason for Withdrawal

After careful evaluation of the issues presented by the USMMA petition, the agency has decided to obtain additional data to provide a better assessment of the need for or desirability of proceeding with a rulemaking action to amend side reflex reflector mounting height. While USMMA asserted that the lower reflector mounting height would increase visibility of motorcycles, petitioners did not provide any data in support of their position. The agency would like to obtain additional data on the validity of USMMA's assertion.

In order to ensure that lower reflector mounting height would not reduce motorcycle conspicuity, the agency is further studying this issue by incorporating investigation of this question into a comprehensive research program dealing with motorcycle conspicuity. The program will evaluate not only reflex reflector height, but also headlamp placement; new motorcycle conspicuity treatments; and the effect of passenger car daytime running lamps on conspicuity of motorcycles.³ We anticipate that this research program will conclude in early 2005. Rather than proceed with a rulemaking on reflex reflector height at this time, we prefer a comprehensive approach that will take into account the knowledge and data gained from the research program. Accordingly, for the reasons discussed above, NHTSA is withdrawing the open rulemaking on the USMMA petition.

³ For more information on this research program, please go to: http://www.nhtsa.dot.gov/people/injury/pedbimot/motorcycle/motorcycle03/Mcycle%20Safety%20Program.pdf.

Authority: 49 U.S.C. 322, 30111, 30115, 30117, and 30166; delegation of authority at 49 CFR 1.50.

Issued: April 19, 2004.
Stephen R. Kratzke,
Associate Administrator for Rulemaking.

[FR Doc. 04-9257 Filed 4-23-04; 8:45 am]

BILLING CODE 4910-59-P